DEPARTMENT OF COMMERCE

National Oceanic and Atmospheric Administration

Agency Information Collection Activities; Submission to the Office of Management and Budget (OMB) for Review and Approval; Comment Request; Northwest Region Federal Fisheries Permits

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 9, 2022.

ADDRESSES: Interested persons are invited to submit written comments to Adrienne Thomas, NOAA PRA Officer, at NOAA.PRA@noaa.gov. Please reference OMB Control Number 0648-0203 in the subject line of your comments. Do not submit Confidential Business Information or otherwise sensitive or protected information.

FOR FURTHER INFORMATION CONTACT: Requests for additional information or specific questions related to collection activities should be directed to Matt Dunlap, Fishery Policy Analyst, NOAA Fisheries/West Coast Region, 7600 Sand Point Way NE, Bldg. 1, Seattle, WA 98115, (206-316-7944), and matthew.dunlap@noaa.gov.

SUPPLEMENTARY INFORMATION:

I. Abstract

This request is for extension of a currently approved information collection. The Magnuson-Stevens Act (16 U.S.C. 1801) provides that the Secretary of Commerce is responsible for the conservation and management of marine fisheries resources in Exclusive Economic Zone (3-200 miles) of the United States (U.S.). NOAA Fisheries manages the Pacific Coast Groundfish Fishery in the Exclusive Economic Zone (EEZ) off Washington, Oregon, and California under the Pacific Coast Groundfish Fishery Management Plan. The regulations implementing the Pacific Groundfish Fishery require that those vessels participating in the limited entry fishery be registered to a valid limited entry permit. Participation in the fishery and access to a limited entry permit has been restricted to control the overall harvest capacity.

NOAA Fisheries seeks comment on the extension of permit information collections required for: (1) renewal and transfer of Pacific Coast Groundfish limited entry permits; (2) implementation of certain provisions of the sablefish permit stacking program as provided for at 50 CFR 660.231 and 660.25; and (3) issuing and fulfilling the terms and conditions of certain exempted fishing permits (EFPs). The regulations implementing the limited entry program are found at 50 CFR part 660, subpart G.

In addition, NOAA Fisheries requires an information collection to implement certain aspects of the sablefish permit stacking program, which prevents excessive fleet consolidation. As part of the annual renewal process, NOAA Fisheries requires a corporation or partnership that owns or holds (as vessel owner) a sablefish endorsed permit to provide a complete ownership interest form listing all individuals with ownership interest in the entity. Similarly, any sablefish endorsed permit transfer involving registration of a business entity requires an ownership interest form if either the permit owner or vessel owner is a corporation or partnership. This information is used to determine if individuals own or hold sablefish permits in excess of the limit of three permits. Also, for transfer requests made during the sablefish primary season (April 1st through October 31st), the permit owner is required to report the remaining tier pounds not yet harvested on the sablefish endorsed permit at the time of transfer.

Applicants for an exempted fishing permit (EFP) must submit written information that allows NOAA Fisheries and the Pacific Fishery Management Council to evaluate the proposed exempted fishing project activities and weigh the benefits and costs of the proposed activities. The Council makes a recommendation on each EFP application and for successful applicants, NOAA Fisheries issues the EFPs that contains terms and conditions for the project including various reporting requirements. The information included in an application is specified at 50 CFR 600.745(b)(2) and the Council Operating Procedure #19. Permit holders are required to file preseason harvest plans, interim and/or final summary reports on the results of the project, and in some cases individual vessels and other permit holders are required to provide data reports (i.e., logbooks and/or catch reports). The results of EFPs are commonly used to explore ways to reduce effort on depressed stocks, encourage innovation and efficiency in the fishery, provide access to constrained stocks by directly measuring the bycatch associated with such strategies, and evaluate/revise current and proposed management measures.

Letters of Authorization (LOAs) and Exempted Educational Activity Authorizations (EEAAs) were historically collected under OMB control number 0648-0309. LOAs and EEAAs were combined into this collection (0648-0203) in 2019.

NMFS may grant exemptions from fishery regulations for educational or other activities (e.g., using non-regulation gear). An EEAA is a permit issued by the Regional Office to accredited educational institutions that authorize, for educational purposes, the target or incidental harvest of species managed under an FMP or fishery regulations that would otherwise be prohibited. EEAAs are generally of limited scope and duration, and authorize the take of the amount of fish necessary to demonstrate the lesson. Researchers are requested to submit reports of their scientific research activity after its completion.

LOAs are required under Section 101(a)(5)(A) of the Marine Mammal Protection Act (MMPA) of 1972 for the incidental take of marine mammals during fisheries surveys and related research activities conducted by the Northwest Fisheries Science Center (NWFSC), NMFS. Management of certain marine mammals falls under the jurisdiction of the NMFS under the MPA and Endangered Species Act (ESA) and mechanisms exist under both the ESA and MMPA to assess the effect of incidental takings and to authorize appropriate levels of take.

II. Method of Collection

Renewal forms are mailed to all permit owners. They can complete their renewals online, submit by mail, or in person. Ownership interest forms and permit transfer forms are available from the region's website but must be submitted to NOAA Fisheries by mail or in person. Applications for an exempted fishing permit must be submitted in a written format. The exempted fishing permit data reports may be submitted in person, faxed, submitted by telephone or emailed by the monitor, plant manager, vessel owner or operator to NOAA Fisheries or the states of Washington, Oregon, or California.

III. Data

OMB Control Number: 0648-0203.

Form Number(s): None.

Type of Review: Regular submission (extension of a current information collection).

Affected Public: Individuals, Non-profit institutions, State, local, or tribal government; business or other for-profit organizations.

Estimated Number of Respondents: 539.

Estimated Time per Response: Permit renewals: 20 minutes; Permit transfers: 30 minutes; Sablefish ownership interest form: 10 minutes; EFP Applications: 32 hours; EFP Trip Notifications: 2 minutes; EFP Harvest Plans: 16 hours; EFP Data Reports: 2 hours; EFP Summary Reports: interim report, 4 hours; final report, 20 hours; Letters of Authorization: 6 hours; Exempted Educational Activities Authorizations, 6 hours.

Estimated Total Annual Burden Hours: 2,011 hours.

Estimated Total Annual Cost to Public: $56,468.

Respondent's Obligation: Required to Obtain Benefits.

Legal Authority: Magnuson-Stevens Act (16 U.S.C. 1801).

IV. Request for Comments

We are soliciting public comments to permit NOAA Fisheries to: (a) Evaluate whether the proposed information collection is necessary for the proper functions of the agency, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-12592 Filed 6-9-22; 8:45 am]

BILLING CODE 3510-22-P